DEPARTMENT OF LABOR

Agency Information Collection Activities; Submission for OMB Review; Comment Request; Request for a Medical or Religious Exception or Delay to the COVID-19 Vaccination Requirement

ACTION: Notice of availability; request for comments.

SUMMARY: The Department of Labor (DOL) is submitting this Office of the Assistant Secretary for Administration and Management (OASAM)-sponsored information collection request (ICR) to the Office of Management and Budget (OMB) for review and approval in accordance with the Paperwork Reduction Act of 1995 (PRA). Public comments on the ICR are invited.

DATES: The OMB will consider all written comments that the agency receives on or before June 27, 2022.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Mara Blumenthal by telephone at 202-693-8538, or by email at DOL_PRA_PUBLIC@dol.gov.

SUPPLEMENTARY INFORMATION: Section 2 of Executive Order 14043, Requiring Coronavirus Disease 2019 Vaccination for Federal Employees, mandates that each agency “implement, to the extent consistent with applicable law, a program to require COVID-19 vaccination for all of its Federal employees, with exceptions only as required by law.” The Rehabilitation Act of 1973, as amended, requires federal agencies to provide reasonable accommodations to qualified employees with disabilities unless that reasonable accommodation would impose an undue hardship on the employee's agency. The Department of Labor is proposing to add student volunteers as respondents who may be requesting a medical exception or delay to the COVID-19 vaccination requirement. Additionally, the Department is proposing to add the form, Request for a Religious Exception or Delay to the COVID-19 Vaccination Requirement, to the ICR. This religious exemption form is necessary for DOL to determine legal exemptions to the vaccine requirement from student volunteers under Title VII of the Civil Rights Act of 1964. As student volunteers are not considered to be Federal employees, the Department must account for the burden for student volunteers to complete the form. For additional substantive information about this ICR, see the related notice published in the Federal Register on March 8, 2022 (87 FR 13004).

A Notice Regarding Injunctions

The vaccination requirement issued pursuant to E.O. 14043, is currently the subject of a nationwide preliminary injunction. While that injunction remains in place, DOL will not process requests for a medical or religious exceptions from the COVID-19 vaccination requirement pursuant to E.O. 14043. DOL will also not request the submission of any medical or religious information related to a request for an exception from the vaccination requirement pursuant to E.O. 14043 while the injunction remains in place. But DOL may nevertheless receive information regarding a medical exception. That is because, if DOL were to receive a request for an exception from the COVID-19 vaccination requirement pursuant to E.O. 14043 during the pendency of the injunction, DOL will accept the request, hold it in abeyance, and notify the volunteer who submitted the request that implementation and enforcement of the COVID-19 vaccination requirement pursuant to E.O. 14043 is currently enjoined and that an exception therefore is not necessary so long as the injunction is in place. In other words, during the pendency of the injunction, any information collection related to requests for medical or religious exceptions from the COVID-19 vaccination requirement pursuant to E.O. 14043 will not be undertaken to implement or enforce the COVID-19 vaccination requirement.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OASAM.

Title of Collection: Request for a Medical or Religious Exception or Delay to the COVID-19 Vaccination Requirement.

OMB Control Number: 1225-0092.

Affected Public: Individuals or Households.

Total Estimated Number of Respondents: 270.

Total Estimated Number of Responses: 270.

Total Estimated Annual Time Burden: 48 hours.

Total Estimated Annual Other Costs Burden: $0.

(Authority: 44 U.S.C. 3507(a)(1)(D))

Dated: May 20, 2022.
Mara Blumenthal,
Senior PRA Analyst.

[FR Doc. 2022-11381 Filed 5-25-22; 8:45 am]

BILLING CODE 4510-23-P